DEPARTMENT OF ENERGY

Federal Energy Regulatory Commission

[Docket No. EL01-86-000]

Indeck Main Energy, L.L.C., Complainant, v. ISO New England Inc., Respondent; Notice of Complaint

June 6, 2001.

Take notice that on June 5, 2001, Indeck Maine Energy, L.L.C. (Indeck Maine) tendered for filing a Complaint Requesting Fast Track Processing of its request that the Commission issue an order requiring ISO New England Inc. (ISO-NE) to dispatch all available generation before ISO-NE may impose bid caps in the ISO-NE administered markets. In addition, Indeck Maine requests that the Commission issue a preliminary order that requires ISO-NE to dispatch all units before declaring a capacity shortage until such time as the Commission issues a final order.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before June 15, 2001. Protests will be considered by the Commission in determining the appropriate action to be taken, but will not serve to make protestants parties to the proceeding. Any person wishing to become a party must file a motion to intervene. Copies for this filing are on file with the Commission and are available for public inspection in the Public Reference Room. This filing may also be viewed on the Internet at http://www.ferc.fed.us/online/rims.htm (call 202-208-2222) for assistance. Answers to the complaint shall also be due on or before June 15, 2001.

Comments, protests and interventions may be filed electronically via the internet in lieu of paper. See, 18 CFR 385.2001(a)(1)(iii) and the instructions on the Commission's web site at http://www.ferc.fed.us/efi/doorbell.htm.

David P. Boergers,
Secretary.

[FR Doc. 01-14708 Filed 6-11-01; 8:45 am]

BILLING CODE 6717-01-M